DEPARTMENT OF THE INTERIOR

National Park Service

Final White-tailed Deer Management Plan, Environmental Impact Statement, Valley Forge National Historical Park, PA

AGENCY: National Park Service, Department of the Interior.

ACTION: Notice of Availability of the Record of Decision for the Final White-tailed Deer Management Plan and Environmental Impact Statement for Valley Forge National Historical Park.

SUMMARY: Pursuant to Section 102(2)(C) of the National Environmental Policy Act of 1969, as amended, the National Park Service (NPS) announces the availability of the Record of Decision for the Final White-tailed Deer Management Plan/Environmental Impact Statement (Final plan/EIS) for Valley Forge National Historical Park, Pennsylvania. The Regional Director, Northeast Region, has approved the Record of Decision for the Final plan/EIS, selecting Alternative D, Combined Lethal and Nonlethal Actions, which was described as the NPS preferred alternative in the Final plan/EIS, released to the public for the required 30-day no-action period beginning August 28, 2009 and ending September 28, 2009. The Record of Decision includes a statement of the decision made, synopses of other alternatives considered, the basis for the decision, a description of the environmentally preferred alternative, a finding on impairment of park resources and values, a description of consistency with Section 101(b) of the National Environmental Policy Act, a listing of measures to minimize environmental harm, and an overview of public involvement in the decision-making process. As soon as practicable, the National Park Service will begin to implement the selected alternative.

Copies of the Record of Decision may be downloaded from the NPS Planning, Environment and Public Comment (PEPC) Web site (http://parkplanning.nps.gov/vafo) or a hardcopy may be obtained from the contact listed below.

FOR FURTHER INFORMATION CONTACT: Kristina M. Heister, Natural Resource Manager, Valley Forge National Historical Park, 1400 North Outer Line Drive, King of Prussia, PA 19406, (610) 783-0252, or online at http://parkplanning.nps.gov/vafo.

SUPPLEMENTARY INFORMATION: Development of the Environmental Impact Statement for the White-tailed Deer Management Plan for Valley Forge National Historical Park was initiated in 2006, pursuant to the 2006 House Appropriations Report (HR 109-465): “The public has been patient as the NPS has worked through its process in regard to management of the over-abundance of white-tailed deer at the park. Within existing funds, NPS is directed to begin the environmental impact statement for deer management. The Committee expects that the plan will be funded fully so that it can be completed in fiscal year 2008. The Committee further expects that implementation of the selected action will begin immediately upon signing of the Record of Decision.”

The purpose of the plan/EIS is to develop a white-tailed deer management strategy that supports long-term protection, preservation, and restoration of native vegetation and other natural and cultural resources while maintaining a deer population at Valley Forge NHP. Forest regeneration has been selected as the primary measure of plan success. Although other factors may affect forest regeneration, such as the forest canopy, nonnative invasive species, pests/disease, fire, and forest fragmentation, this plan focuses on the role and impact of white-tailed deer in the ecological environment, which has been documented through research and long-term monitoring at Valley Forge NHP. The secondary purpose of the plan/EIS is to provide appropriate response to chronic wasting disease (CWD), a fatal, neurological disease identified in free-ranging and captive mule deer, white-tailed deer, elk, and moose. CWD is not currently known to be present in the park or the Commonwealth of Pennsylvania; however, changes in the proximity of CWD to the park boundary and other risk factors have resulted in an elevated risk of CWD occurrence within the park; therefore, integration of CWD response into white-tailed deer management represents an effort on the part of the NPS to be proactive and fully prepared given the high level of risk of the park for exposure to and amplification of CWD.

The following objectives related to deer management at Valley Forge NHP were developed for the plan.

Vegetation

• Protect arid promote restoration of the natural abundance, distribution, structure, and composition of native plant communities by reducing deer browsing.

• Reduce deer browsing pressure enough to promote tree and shrub regeneration that results in a diverse forest structure dominated by native species.

• Promote a mix of native herbaceous plant species and reduce the competitive advantage of invasive, nonnative plant species.

Wildlife and Wildlife Habitat

• Maintain a white-tailed deer population within the park that allows for protection and restoration of native plant communities.

• Protect and preserve other native wildlife species by promoting the restoration of native plant communities.

• Reduce the probability of occurrence, promote early detection, and reduce the probability of spread of chronic wasting disease.

Threatened, Endangered, and Special Status Species

• Protect and promote restoration of special status plant and animal species and their habitat.

Cultural Resources

• Protect the integrity of the cultural landscape, including the patterns of open versus wooded land, commemorative plantings, and vegetative screenings.

• Protect archeological resources by promoting the growth and maintenance of native vegetative cover and reducing trampling and soil erosion.

The NPS has selected Alternative D (Combined Lethal and Nonlethal Actions), which was described as the NPS preferred alternative in the Final plan/ETS. The selected alternative continues current deer management actions, including vegetation and deer population monitoring, small fenced areas, roadkill removal, public education, coordination with the PGC, and CWD monitoring and response. In addition, the selected alternative includes two lethal actions (sharpshooting and capture and euthanasia in certain circumstances where sharpshooting is not appropriate) that will be used in combination to reduce deer population size and a non-lethal action (reproductive control) to maintain the deer population at the desired density. These actions will be conducted by qualified Federal employees or contractors. The selected alternative establishes a range of 31 to 35 deer per square mile as the initial deer density goal. This deer density is consistent with the density range reported in the scientific literature as necessary for adequate tree regeneration and reflects the documented deer density at the park in 1983, when habitat was considered in good condition. Up to four years will be required to reach this goal given the limited accessibility of some areas and increased difficulty in locating deer as the population size decreases.

Forest regeneration has been selected as the primary measure of plan success; therefore, tree seedlings will be monitored to determine at what point the browsing impacts will warrant implementation of the management actions contained in the selected alternative. Because the goal is to manage for successful forest regeneration within the park and not for deer density, the selected alternative incorporates an adaptive management strategy to better manage based on the uncertainty concerning the impacts the change in deer population densities will have on vegetation recovery. The results of deer removal would be documented annually through monitoring of forest regeneration so that the number of deer to be removed could be adjusted based on the response of the vegetation to a lower deer density. If monitoring indicated that vegetation was not regenerating, management actions would be adjusted.

By using an adaptive management approach, park managers will be able to change the timing or intensity of management treatments to better meet the goals of the plan as new information is obtained.

The selected alternative includes measures to respond to detection of CWD. Should chronic wasting disease (CWD) be confirmed within five miles of the park boundary or the park falls within a State established CWD-containment zone then active lethal surveillance will be implemented (lethal removal of deer for the purposes of assessing disease presence, prevalence, and distribution). Portions of the plan related to CWD were prepared in cooperation with the Pennsylvania Game Commission.

In addition to the selected alternative, two other action alternatives and the no action alternative were presented and analyzed in the Draft and Final Environmental Impact Statements.

Alternative A (no action) would continue the existing deer management activities of monitoring deer population size and vegetation, small scale fencing of selected vegetation, removal of deer killed on roadways, public education, coordination with the Pennsylvania Game Commission, and continuation of limited CWD surveillance; no new deer management actions would be implemented.

Alternative B, Combined Nonlethal Actions, would combine several non-lethal actions, including large-scale rotational fencing of 10% to 15% of the park's forested area and reproductive control of does to gradually reduce deer population in the park. Chronic wasting disease surveillance would include live testing (via tonsillar biopsy) and removal of CWD-positive individuals.

Alternative C, Combined Lethal Actions, would use qualified Federal employees or contractors to directly reduce the deer population in the park through sharpshooting and through capture and euthanasia, where appropriate. CWD response would include rapid reduction of the deer population to the target deer density and the potential for a one-time reduction action to not less than 10 deer per square mile through sharpshooting and through capture and euthanasia. These actions would be taken for the purposes of assessing disease presence, prevalence, and distribution. These actions may also minimize the likelihood of CWD becoming established, minimize the likelihood of amplification and spread if the disease is introduced, and promote elimination of CWD, if possible.

To identify the selected alternative, the planning team ranked each alternative based on: (1) The ability to meet the individual plan objectives; and (2) the potential impacts on the environment. The rankings were added up to determine which alternative best met the objectives. Alternatives C and D were closely ranked in their ability to meet all of the objectives. The NPS also considered the safety of implementing each alternative in identifying the selected alternative. Under Alternative D, the time that shooting would occur in the park would be less than under Alternative C. Because Alternative D maintains the efficiency of Alternative C in meeting the plan objectives and further improves safety by reducing the time that sharpshooting activities would occur in the park, Alternative D was selected for implementation.

The foreseeable environmental consequences of the selected alternative were fully assessed and documented in the Final plan/EIS. All practicable means to avoid and minimize environmental harm that could result from implementation of the selected alternative have been identified and incorporated into the selected alternative. After review of the potential environmental effects, the alternative selected for implementation will not impair park resources or values and will not violate the NPS Organic Act.

This decision is the result of a public planning process that began in 2006. At different points in the development of the plan/EIS, the NPS provided information and updates via newsletters, news releases, public meetings, the park Web site, and briefings. A Notice of Intent to prepare an ETS was published in the Federal Register on September 7, 2006, initiating a 90-day public scoping period between September 7, 2006 and December 8, 2006. Two public scoping meetings were held to facilitate the public involvement process early in the planning stage and to obtain community feedback on the initial concepts for deer management at Valley Forge NHP. The results of public scoping were documented in a Public Comment Analysis Report which was provided for public review on the park Web site (http://www.nps.gov/vafo) and on PEPC (http://parkplanning.nps.gov/vafo).

A Notice of Availability of the Draft White-tailed Deer Management Plan/EIS (Draft plan/EIS) for Valley Forge NHP was published in the Federal Register on December 19, 2008. The Draft plan/EIS was available for a 60-day public and agency review from December 19, 2008 through February 17, 2009. Copies of the document were distributed to individuals, agencies, organizations, and local libraries. Two public meetings were held in January, 2009. Comments received on the Draft plan/EIS related to general lethal reduction, objectives in taking action, and the preferred combined lethal and nonlethal alternative. The majority of these comments were nonsubstantive. Comments in support of Alternative D: Combined Lethal and Nonlethal Actions were the second most common comment. Comments received on the Draft plan/EIS resulted in minor factual changes to the text, and an update of Appendix E: Review of White-tailed Deer Reproductive Control, with current literature, expert review and comments, and more detailed explanation of criteria for an acceptable chemical reproductive control agent. Associated sections of the Final plan/EIS were updated to reflect changes to Appendix E. A summary of public comments and NPS responses is contained in Appendix F of the Final plan/EIS. A Notice of Availability of the Final plan/EIS was published in the Federal Register on August 28, 2009. The 30-day no-action period ended on September 28, 2009.

The official primarily responsible for implementing the updated General Management Plan is the Superintendent of Valley Forge National Historical Park.

Dennis R. Reidenbach,
Regional Director, Northeast Region, National Park Service.

[FR Doc. E9-28060 Filed 11-24-09; 8:45 am]

BILLING CODE M